COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by a nonprofit agency employing persons who are blind or have other severe disabilities, and deletes products and a service previously provided by such agencies.

DATES: Comments must be received on or before August 28, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

NSN(s)—Product Name(s): MR 13001—Greensaver Produce Keeper, 1.6 Qt. MR 13002—Greensaver Produce Keeper, 4.3 Qt. MR 13004—Greensaver Crisper Insert.

Mandatory Source(s) of Supply: Cincinnati Association for the Blind, Cincinnati, OH.

Mandatory Purchase For: The requirements of military commissaries and exchanges in accordance with the Code of Federal Regulations, Chapter 51, 51-6.4.

Contracting Activity: Defense Commissary Agency.

Distribution: C-List.

Deletions

The following products and service are proposed for deletion from the Procurement List:

Products

NSN(s)—Product Name(s): MR 890—Barbecue, Display, 4 Tool.

Mandatory Source(s) of Supply: Cincinnati Association for the Blind, Cincinnati, OH.

Contracting Activity: Defense Commissary Agency.

NSN(s)—Product Name(s): MR 1032—Rag, Cleaning, White, MR 1145—Server, Gravy Boat.

Mandatory Source(s) of Supply: Winston-Salem Industries for the Blind, Inc., Winston-Salem, NC.

Contracting Activity: Defense Commissary Agency.

NSN(s)—Product Name(s): 6230-00-643-3562—Lantern, Electric, Head 6230-01-493-7630—Lighting Pro VR-5AA Headlight.

Contracting Activity: General Services Administration, Fort Worth, TX.

NSN(s)—Product Name(s) 6230-01-285-4396—Lantern, Electric, Fireman's Helmet.

Contracting Activity: Defense Logistics Agency Aviation.

Mandatory Source(s) of Supply: Easter Seals Capital Region & Eastern Connecticut, Inc., Windsor, CT.

Service

Service Type: Janitorial/Custodial Service.

Mandatory for: Veterans Center #402: 4161 Cass, Detroit, MI.

Mandatory Source(s) of Supply: Jewish Vocational Service and Community Workshop, Southfield, MI.

Contracting Activity: Department of Veterans Affairs.

Barry S. Lineback,
Director, Business Operations.

[FR Doc. 2016-17989 Filed 7-28-16; 8:45 am]

BILLING CODE 6353-01-P